ENVIRONMENTAL PROTECTION AGENCY

[EPA-HQ-OLEM-2024-0365; 12512-01OLEM]

Agency Information Collection Activities; Proposed Information Collection Request; Comment Request; Application for Preauthorization of a CERCLA Response Action and Claim for CERCLA Response Action

AGENCY: Environmental Protection Agency (EPA).

ACTION: Notice.

SUMMARY: The Environmental Protection Agency (EPA) is planning to submit the reinstatement of the information collection request (ICR), (1) Application for Preauthorization of a CERCLA Response Action and (2) Claim for CERCLA Response Action (EPA ICR Number 12512-01-OLEM, OMB Control Number 2050-0106) to the Office of Management and Budget (OMB) for review and approval in accordance with the Paperwork Reduction Act. Before doing so, EPA is soliciting public comments on specific aspects of the proposed information collection as described below. This is a proposed extension of the ICR, which was approved through April 30, 2001. This notice allows 60 days for public comments.

DATES: Comments must be submitted on or before April 29, 2025.

ADDRESSES: Submit your comments, referencing Docket ID Number EPA-HQ-OLEM-2024-0365 to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Ellyn Fine, Office of Land and Emergency Management, Office of Superfund Remediation and Technology Innovation, Assessment and Remediation Division, Mail Code 5204T, Environmental Protection Agency, 1200 Pennsylvania Ave. NW, Washington, DC 2.0460; telephone number: 202-566-1013; email address: fine.ellyn@epa.gov.

SUPPLEMENTARY INFORMATION: This is a proposed extension of an ICR, which was previously renewed through April 30, 2001. An agency may not conduct or sponsor and a person is not required to respond to a collection of information unless it displays a currently valid OMB control number. This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: Under the claims procedures in 40 CFR part 307 of the National Contingency Plan (NCP), a party must obtain EPA approval to take response actions, and subsequently, to make a claim for reimbursement from the Hazardous Substance Superfund. The forms used for these purposes are: (1) Application for Preauthorization of a CERCLA Response Action and (2) Claim for CERCLA Response Action. Both forms are in need of reinstatement and, once approved, will be publicly available on EPA's website and may be submitted to EPA via email.

Form Numbers: OMB Control Number 2050-0106; EPA Form Numbers 2075-3 and 2075-4;

Respondents/affected entities: persons seeking preauthorization and subsequent reimbursement of claims for necessary costs incurred for response actions; States or political subdivisions subject to an agreement reached pursuant to section 122(b)(1) of CERCLA.

Respondent's obligation to respond: required to obtain or retain a benefit per CERCLA 111(a)(2) and 112 and 40 CFR part 307.

Estimated number of respondents: Two (annually).

Frequency of response: Only occurs when entity seeks pre-approval or claim reimbursement.

Total estimated burden: 161 hours (per year). Burden is defined at 5 CFR 1320.03(b). This includes the submission of one pre-authorization form from one respondent (estimated at 110 hours) and one claim reimbursement form submitted by one respondent (estimated at 51 hours).

Total estimated cost: $11,828.67 (per year), which includes $0 annualized capital or operation & maintenance costs. This includes the estimated cost of submission of one pre-authorization form from one respondent (estimated at $8,081.70) and one claim reimbursement form submitted by one respondent (estimated at $3,746.97).

Changes in the estimates: There is a change in the total estimated respondent burden compared with the ICR previously approved by OMB. Respondent burden estimates have not been updated since the 1990s. Fewer entities have requested this authority over the past three years than in the past. The internet and other computer-based tools for information management reduces the amount of time needed to compile requested information.

Barry Breen,
Principal Deputy Assistant Administrator, Office of Land and Emergency Management, Environmental Protection Agency.

[FR Doc. 2025-03210 Filed 2-27-25; 8:45 am]

BILLING CODE 6560-50-P